FEDERAL COMMUNICATIONS COMMISSION

Sunshine Act Meeting; Open Commission Meeting Thursday, February 14, 2002

February 7, 2002.

The Federal Communications Commission will hold an Open Meeting on the subjects listed below on Thursday, February 14, 2002, which is scheduled to commence at 9:30 a.m. in Room TW-C305, at 445 12th Street, SW., Washington, DC.

Item No. | Bureau | Subject
1 | Common Carrier | Title: Appropriate Framework for Broadband Access to the Internet over Wireline Facilities; and Universal Service Obligations of Broadband Providers.
|  | Summary: The Commission will consider a Notice of Proposed Rule Making initiating a thorough examination of the appropriate legal and policy framework under the Communications Act of 1934, as amended, for broadband access to the Internet provided over domestic wireline facilities.
2 | Common Carrier | Title: Federal-State Joint Board on Universal Service (CC Docket No. 96-45); 1998 Biennial Regulatory Review (CC Docket No. 98-171); Telecommunications Services for Individuals with Hearing and Speech Disabilities (CC Docket No. 90-571); Administration of the North American Numbering Plan (CC Docket No. 92-327); Number Resource Optimization (CC Docket No. 99-200); Telephone Number Portability (CC Docket No. 95-116); and Truth-in-Billing and Billing Format (CC Docket No. 98-170).
|  | Summary: The Commission will consider a Further Notice of Proposed Rulemaking and Order concerning the system for assessment and recovery of universal service contributions.
3 | Mass Media | Title: Reexamination of the Comparative Standards for Noncommercial Educational Applicants (MM Docket No. 95-31); and Association of America's Public Television Stations' Motion for Stay of Low Power Television Auction (No. 81).
|  | Summary: The Commission will consider a Second Further Notice of Proposed Rule Making to adopt new procedures for licensing spectrum in which both commercial and noncommercial educational entities have an interest.
4 | International | Title: Amendment of the Commission's Space Station Licensing Rules and Policies; and 2000 Biennial Regulatory Review—Streamlining and Other Revisions of Part 25 of the Commission's Rules Governing the Licensing of and Spectrum Usage by Satellite Network Earth Stations and Space Stations (IB Docket No. 00-248).
|  | Summary: The Commission will consider a Notice of Proposed Rule Making and First Report and Order inviting comments on revising the procedures for considering satellite license applications.
5 | Consumer Information | Title: Establishment of Rules Governing Procedures to Be Followed When Informal Complaints Are Filed by Consumers Against Entities Regulated by the Commission; and Amendment of Subpart E of Chapter 1 of the Commission's Rules Governing Procedures to Be Followed When Informal Complaints Are Filed Against Common Carriers—2000 Biennial Regulatory Review (CC Docket No. 94-93).
|  | Summary: The Commission will consider a Notice of Proposed Rule Making to establish a uniform consumer complaint process applicable to all services regulated by the Commission which are not currently covered by the common carrier informal complaint rules.
6 | Office of Engineering and Technology | Title: Revision of Part 15 of the Commission's Rules Regarding Ultra-Wideband Transmission System (ET Docket No. 98-153).
|  | Summary: The Commission will consider a First Report and Order to provide for new ultra-wideband devices.
7 | Wireless Tele-Communications and Office of Engineering and Technology | Title: The 4.9 GHz Band Transferred from Federal Government Use (WT Docket No. 00-32).
|  | Summary: The Commission will consider a Second Report and Order regarding the allocation and designation of the 4940-4990 MHz band; and a Further Notice of Proposed Rule Making concerning the service rules for this band.

Additional information concerning this meeting may be obtained from Maureen Peratino or David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualexint@apl.com

This meeting can be viewed over George Mason University's Capitol Connection. The Capitol Connection also will carry the meeting live via the Internet. For information on these services call (703) 834-1470 Ext. 10. The audio portion of the meeting will be broadcast live on the Internet via the FCC's Internet audio broadcast page at <http://www.fcc.gov/realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
William F. Caton,
Acting Secretary.

[FR Doc. 02-3576 Filed 2-8-02; 4:38 pm]

BILLING CODE 6712-01-P